DEPARTMENT OF ENERGY

Federal Energy Regulatory Commission

Combined Notice of Filings

Take notice that the Commission has received the following Natural Gas Pipeline Rate and Refund Report filings:

Filings Instituting Proceedings

Docket Number: PR17-57-001.

Applicants: Houston Pipe Line Company LP.

Description: Tariff filing per 284.123(b), (e)+(g): Amended Rate Election of Houston Pipe Line Company LP to be effective 11/1/2017; Filing Type: 1270.

Filed Date: 10/13/17.

Accession Number: 201710135143.

Comments Due: 5 p.m. ET 11/3/17.

284.123(g) Protests Due: 5 p.m. ET 12/12/17.

Docket Number: PR18-3-000.

Applicants: New Mexico Gas Company, Inc.

Description: Tariff filing per 284.123(b), (e)+(g): Amended Statement of Operating Conditions to be effective 9/15/2017; Filing Type: 1300.

Filed Date: 10/16/17.

Accession Number: 201710165206.

Comments Due: 5 p.m. ET 11/6/17.

284.123(g) Protests Due: 5 p.m. ET 12/15/17.

Docket Numbers: RP18-40-000.

Applicants: Natural Gas Pipeline Company of America.

Description: § 4(d) Rate Filing: Macquarie Energy LLC NRFiling to be effective 11/1/2017.

Filed Date: 10/18/17.

Accession Number: 20171018-5050.

Comments Due: 5 p.m. ET 10/30/17.

Docket Numbers: RP18-41-000.

Applicants: Natural Gas Pipeline Company of America.

Description: § 4(d) Rate Filing: Amendment to NRAFiling MercuriaEnergy America, Inc. to be effective 11/1/2017.

Filed Date: 10/18/17.

Accession Number: 20171018-5052.

Comments Due: 5 p.m. ET 10/30/17.

Docket Numbers: RP18-42-000.

Applicants: Algonquin Gas Transmission, LLC.

Description: § 4(d) Rate Filing: Addition of Exit Fee language to be effective 11/17/2017.

Filed Date: 10/18/17.

Accession Number: 20171018-5053.

Comments Due: 5 p.m. ET 10/30/17.

Docket Numbers: RP18-43-000.

Applicants: Algonquin Gas Transmission, LLC.

Description: § 4(d) Rate Filing: Negotiated Rates—Key Span Release to Emera 794830 to be effective 11/1/2017.

Filed Date: 10/18/17.

Accession Number: 20171018-5082.

Comments Due: 5 p.m. ET 10/30/17.

Docket Numbers: RP18-44-000.

Applicants: Centra Pipelines Minnesota Inc.

Description: § 4(d) Rate Filing: Update Shipper Index Oct 2017 to be effective 12/1/2017.

Filed Date: 10/18/17.

Accession Number: 20171018-5157.

Comments Due: 5 p.m. ET 10/30/17.

Docket Numbers: RP18-45-000.

Applicants: Midcontinent Express Pipeline LLC.

Description: § 4(d) Rate Filing: Fuel Tracker Filing 10/19/17 to be effective 12/1/2017.

Filed Date: 10/19/17.

Accession Number: 20171019-5010.

Comments Due: 5 p.m. ET 10/31/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 19, 2017.
Nathaniel J. Davis, Sr.,
Deputy Secretary.

[FR Doc. 2017-23776 Filed 10-31-17; 8:45 am]

BILLING CODE 6717-01-P